DEPARTMENT OF ENERGY

Federal Energy Regulatory Commission

[Project No. 14309-000]

Apache Hydro LLC; Notice of Preliminary Permit Application Accepted for Filing and Soliciting Comments, Motions To Intervene, and Competing Applications

On October 26, 2011, Apache Hydro LLC filed an application for a preliminary permit, pursuant to section 4(f) of the Federal Power Act (FPA), proposing to study the feasibility of a pump storage hydropower project located on Dry Wash, Apache Canyon, in Hudspeth, Culberson, and Reeves Counties, Texas. The sole purpose of a preliminary permit, if issued, is to grant the permit holder priority to file a license application during the permit term. A preliminary permit does not authorize the permit holder to perform any land-disturbing activities or otherwise enter upon lands or waters owned by others without the owners' express permission.

The proposed pumped storage project would consist of the following: (1) A 210-foot-high, 1,610-foot-long earth fill dam; (2) a 20-foot-high, 340-foot-long saddle dam; (3) an upper reservoir with a surface area of 134.0 acres and an 11,726 acre-foot storage capacity; (4) a 170-foot-high, 1,270.0-foot-long earth fill dam creating; (5) a lower reservoir with a surface area of 209.0 acres and an 14,139 acre-foot storage capacity; (6) one 32-foot-diameter, 2,713-foot-long penstock; (7) a bifurcation to four 11-foot-diameter, and 640-foot-long penstocks; (8) a powerhouse/pumping station containing four pump/generating units with a total generating capacity of 1,271 megawatts; (9) a substation; (10) a 208.0-mile-long, 345 kilo-Volt transmission line to an existing substation near Midland, Texas; and (11) existing roads will be upgraded for access to the project. The proposed project would have an average annual generation of 3,683.0 gigawatt-hours (GWh).

Applicant Contact: Mr. Vincent Lamarra, Symbiotics LLC, 975 South State Highway 89/91, Logan, UT 84321. (435) 752-2580.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14309-000) in the docket number field to access the document. For assistance, contact FERC Online Support.

Dated: November 23, 2011.
Kimberly D. Bose,
Secretary.

[FR Doc. 2011-30869 Filed 11-30-11; 8:45 am]

BILLING CODE 6717-01-P